DEPARTMENT OF TRANSPORTATION

Surface Transportation Board

[STB Finance Docket No. 34248]

Dallas, Garland & Northeastern Railroad, Inc.—Trackage Rights Exemption—Dallas Area Rapid Transit

Dallas, Garland & Northeastern Railroad, Inc. (DGNO), has agreed to acquire by assignment from Union Pacific Railroad Company exclusive trackage rights over Dallas Area Rapid Transit's (DART) Elam Branch line between approximately milepost 308.80 near Elam, TX, and approximately milepost 314.84 near Briggs, TX, a total distance of approximately 6.04 miles.¹

¹ An unredacted version of the Trackage Rights Agreement, as required by 49 CFR 1180.6(a)(7)(ii), was concurrently filed under seal along with the motion for a protective order. That motion was granted and a protective order was issued in a decision served on September 5, 2002.

The transaction was scheduled to be consummated on or shortly after August 30, 2002, the effective date of the exemption (7 days after the exemption was filed).

The purpose of the trackage rights is to enable DGNO to provide freight rail service on DART's rail line.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34248, must be filed with the Surface Transportation Board, 1925 K Street, NW., Washington, DC 20423-0001. In addition, one copy of each pleading must be served on Gary Laakso, Vice President Regulatory Counsel, 5300 Broken Sound Blvd., NW., 2nd Floor, Boca Raton, FL 44487.

Board decisions and notices are available on our Web site at “www.stb.dot.gov.”

Decided: September 5, 2002.
By the Board, David M. Konschnik, Director, Office of Proceedings.
Vernon A. Williams,
Secretary.

[FR Doc. 02-23093 Filed 9-11-02; 8:45 am]

BILLING CODE 4915-00-P